DEPARTMENT OF THE INTERIOR

Fish and Wildlife Service

Issuance of Permit for Incidental Take of Threatened Species for the Harding Property, Douglas County, CO

AGENCY: Fish and Wildlife Service, Interior.

ACTION: Notice of issuance of permit for incidental take of endangered species.

SUMMARY: On November 22, 2000, a notice was published in the Federal Register (Vol. 65 No. 226 FR 70359), that an application had been filed with the U.S. Fish and Wildlife Service (Service) by Susan K. Harding, Douglas County, Colorado, for a permit to incidentally take, pursuant to section 10(a)(1)(B) of the Endangered Species Act of 1973 (16 U.S.C. 1539), as amended (Act), Preble's meadow jumping mouse (Zapus hudsonius preblei) on the Harding Property, 101 Allis Ranch Road, Sedalia, Colorado 80135, pursuant to the terms of the Environmental Assessment/Habitat Conservation Plan.

Notice is hereby given that on March 1, 2001, as authorized by the provisions of the Act, the Service issued a permit (PRT-TE035844-0) to the above named party subject to certain conditions set forth therein. The permit was granted only after the Service determined that it was applied for in good faith, that granting the permit will not be to the disadvantage of the threatened species, and that it will be consistent with the purposes and policy set forth in the Act, as amended.

Additional information on this permit action may be requested by contacting the Colorado Field Office, 755 Parfet Street, Suite 361, Lakewood, Colorado 80215, telephone (303) 275-2370 between the hours of 7:00 am and 4:30 pm weekdays.

Dated: March 8, 2001.
Ralph O. Morgenweck,
Regional Director, Region 6.

[FR Doc. 01-6976 Filed 3-2-01; 8:45 am]

BILLING CODE 4310-55-M